DEPARTMENT OF ENERGY

Federal Energy Regulatory Commission

Combined Notice of Filings

Take notice that the Commission has received the following Natural Gas Pipeline Rate and Refund Report filings:

Docket Numbers: RP20-857-001.

Applicants: Columbia Gas Transmission, LLC.

Description: Compliance filing Reservation Charge Credits Compliance Filing to be effective 6/1/2020.

Filed Date: 6/10/20.

Accession Number: 20200610-5049.

Comments Due: 5 p.m. ET 6/22/20.

Docket Numbers: RP19-1353-008.

Applicants: Northern Natural Gas Company.

Description: Compliance filing 20200611 Compliance Filing to be effective 1/1/2020.

Filed Date: 6/11/20.

Accession Number: 20200611-5101.

Comments Due: 5 p.m. ET 6/23/20.

Docket Numbers: RP20-540-001.

Applicants: Columbia Gulf Transmission, LLC.

Description: Compliance filing TRA 2020 Waiver Extension.

Filed Date: 6/11/20.

Accession Number: 20200611-5102.

Comments Due: 5 p.m. ET 6/23/20.

Docket Numbers: RP20-953-000.

Applicants: Rover Pipeline LLC.

Description: § 4(d) Rate Filing: Contracting Process Filing to be effective 7/12/2020.

Filed Date: 6/11/20.

Accession Number: 20200611-5015.

Comments Due: 5 p.m. ET 6/23/20.

Docket Numbers: RP20-954-000.

Applicants: Trunkline Gas Company, LLC.

Description: § 4(d) Rate Filing: Creditworthiness and Other Tariff Revisions to be effective 7/12/2020.

Filed Date: 6/11/20.

Accession Number: 20200611-5016.

Comments Due: 5 p.m. ET 6/23/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2020.
Kimberly D. Bose,
Secretary.

[FR Doc. 2020-13151 Filed 6-17-20; 8:45 am]

BILLING CODE 6717-01-P